FEDERAL COMMUNICATIONS COMMISSION

[CC Docket No. 98-146; FCC 01-223]

Inquiry Concerning the Deployment of Advanced Telecommunications Capability to All Americans in a Reasonable and Timely Fashion, and Possible Steps To Accelerate Such Deployment Pursuant to Section 706 of the Telecommunications Act of 1996

AGENCY: Federal Communications Commission.

ACTION: Notice.

SUMMARY: In this document, the Federal Communications Commission begins its third inquiry into whether advanced telecommunications capability is being deployed to all Americans in a reasonable and timely fashion.

DATES: Comments are due September 24, 2001. Reply comments are due October 9, 2001.

ADDRESSES: Filings must be sent to the Commission's Secretary, Magalie Roman Salas, Office of the Secretary, Federal Communications Commission, 445 12th St., SW., Room TW B-204, Washington, DC 20554.

FOR FURTHER INFORMATION CONTACT: Ellen Blackler, Special Assistant to the Bureau Chief, Common Carrier Bureau, (202) 418-0491, TTY: (202) 418-0484.

SUPPLEMENTARY INFORMATION: This is a summary of the Commission's Third Notice of Inquiry (Notice) in CC Docket No. 98-146 released on August 10, 2001. The full text of the Notice is available for public inspection and copying during normal business hours in the FCC Reference Center, Room CY-A257, 445 Twelfth Street, SW., Washington, DC 20554.

Synopsis of the Inquiry

1. This Notice begins our third inquiry under section 706 of the Telecommunications Act of 1996 into “whether advanced telecommunications capability is being deployed to all Americans in a reasonable and timely fashion.” To help inform this inquiry, we are simultaneously releasing our most recent data on subscribership to high-speed services. Our first and second inquiries concluded that the deployment of advanced telecommunications capability was reasonable and timely on a general, nationwide basis. Our Second Report cautioned, however, that certain groups of consumers might be particularly vulnerable to not receiving timely deployment of advanced telecommunications capability by market forces alone. Notwithstanding our conclusion that deployment is occurring in a reasonable and timely basis, we continue to take steps to remove any barriers to deployment; to remove any barriers to investment in technologies that can deliver advanced services; and to vigorously promote a competitive marketplace. In this inquiry, we re-examine the marketplace in order to determine whether advanced telecommunications capability is being deployed to all Americans in a reasonable and timely manner. This inquiry will build on the information we have collected through our previous inquiries, our continuing dialogue with the Joint Federal-State Conference on Advanced Services (Joint Conference), the Joint Conference's database of community deployment efforts, and the records developed in our proceedings designed to increase competition and promote deployment.

2. Specifically, the Notice seeks comment on four areas: (1) Whether the Commission's definition of advanced telecommunications capability remains appropriate; (2) whether advanced telecommunications capability is being deployed to all Americans; (3) whether the deployment of advanced telecommunications capability is reasonable and timely; and (4) if deployment of advanced telecommunications capability is not reasonable and timely, the actions that will accelerate deployment. Once the Commission has gathered this information, it will release a Report within 180 days detailing its findings.

Ordering Clause

3. Accordingly, it is ordered that, pursuant to section 706 of the Telecommunications Act of 1996, this Notice of Inquiry is adopted.

Federal Communications Commission.
Magalie Roman Salas,
Secretary.

[FR Doc. 01-21414 Filed 8-23-01; 8:45 am]

BILLING CODE 6712-01-P